NATIONAL TRANSPORTATION SAFETY BOARD

Proposed Information Collection Activity: Submission for OMB Review; Comment Request

AGENCY: National Transportation Safety Board (NTSB).

ACTION: Notice.

SUMMARY: The NTSB is announcing that it has submitted an Information Collection Request (ICR) to the Office of Management and Budget (OMB) for approval, in accordance with the Paperwork Reduction Act. This ICR described completion of a Web-based form used to collect reports of certain resolution advisories (RAs), in accordance with 49 CFR 830.5(a)(10). This Notice informs the public that it may submit comments concerning the NTSB's proposed collection of information to the NTSB Desk Officer at the OMB.

DATES: Submit written comments regarding this proposed collection of information by July 9, 2012.

ADDRESSES: Respondents may submit written comments on the collection of information directly to the Desk Officer for National Transportation Safety Board, Office of Management and Budget, Office of Information and Regulatory Affairs, fax 202-395-5806, or by electronic mail at oira_docket@omb.eop.gov.

FOR FURTHER INFORMATION CONTACT: Scott Dunham, NTSB Office of Aviation Safety, at (202) 314-6387.

SUPPLEMENTARY INFORMATION: In accordance with the Paperwork Reduction Act, the NTSB previously published a Notice in the Federal Register indicating its proposal to collect the following information: (1) Confirmation that the incident to be reported falls under the scope of the rule; (2) contact information, such as the submitter's name, company (if any), email address, and telephone number; (3) information about the flight and aircraft, such as the call sign, type of aircraft, location and time of the occurrence, and altitude at which the aircraft experienced the RA; (4) information about the air traffic control (ATC) services being provided to the aircraft when the RA occurred, such as the ATC facility name and communications frequency in use; and (5) a brief description of the RA type and circumstances of the incident. 75 FR 15460 (March 29, 2010). Title 49 CFR 830.5(a)(10), which requires reports of certain RAs, does not require completion of the Web-based form; however, the NTSB has created the Web-based medium in order to provide respondents with the option of completing it, in lieu of placing phone calls or sending other written communications to the NTSB Office of Aviation Safety.

The NTSB did not receive any comments in response to the Notice of information collection. At this juncture, in accordance with OMB regulations that require this additional Notice for proposed ICRs, the NTSB seeks to notify the public that it may submit comments on this proposed ICR to OMB. 5 CFR 1320.10(a). Section 1320.10(a) requires this “notice directing requests for information, including copies of the proposed collection of information and supporting documentation, to the [NTSB].” Section 1320.10(a) also requires the NTSB request that comments be submitted to OMB, directed to the Office of Information and Regulatory Affairs of OMB, Attention: Desk Officer for NTSB, within 30 days of this notice's publication. Pursuant to § 1320.10(a), the NTSB will provide a copy of this notice, together with the date of expected publication, to OMB. Under § 1320.10(b), within 60 days of the receipt of the aforementioned documents, OMB will notify the NTSB of its decision to approve or disapprove the collection of information described herein. Section 1320.10(b) also states OMB shall provide at least 30 days for public comment after receipt of the proposed collection of information before making its decision.

You are asked to comment on any aspect of this information collection, including: (1) Whether the proposed collection is necessary for the NTSB to perform its mission; (2) the accuracy of the estimated burden; (3) ways for the NTSB to enhance the quality, usefulness, and clarity of the collected information; and (4) ways that the burden could be minimized without reducing the quality of the collected information. The NTSB will summarize and/or include your comments in the request for OMB's clearance of this information collection.

Respondents' completion of the proposed Web-based form is voluntary, as respondents who seek to report an incident under 49 CFR 830.5(a)(10) may do so by telephone or email. The Web-based form will be available on the NTSB Web site. The form is not duplicative of other agencies' collections of information. The NTSB estimates that respondents will spend approximately 10 minutes in completing the form. The NTSB estimates that approximately 120 respondents per year will complete the form.

Dated: May 31, 2012.
Deborah A.P. Hersman,
Chairman.

[FR Doc. 2012-13786 Filed 6-6-12; 8:45 am]

BILLING CODE 7533-01-P